DEPARTMENT OF THE INTERIOR

Bureau of Indian Affairs

[167A2100DD/AAKC001030/A0A501010.999900]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 77.00 acres, more or less, an addition to the reservation of the Shakopee Mdewakanton Sioux Community of Minnesota on March 22, 2016.

FOR FURTHER INFORMATION CONTACT: Sharlene Round Face, Bureau of Indian Affairs, Division of Real Estate Services, MS-4642-MIB, 1849 C Street NW., Washington, DC 20240, at (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 467), for the land described below. The land was proclaimed to be Shakopee Mdewakanton Sioux Community Reservation for the exclusive use of Indians on that reservation who are entitled to reside at the reservation by enrollment or tribal membership.

Reservation of the Shakopee Mdewakanton Sioux Community, Township of Shakopee, County of Scott and State of Minnesota

MWCC (Parcel 2) Petsch

Legal Description Containing 77.00 Acres, More or Less

The East Half of the Northeast Quarter (E ½ of NE ¼) of Section 22, Township 115 North, Range 22 West of the 5th Principal Meridian, according to the United States Government Survey thereof and situated in Scott County, Minnesota. TPN: 279220020.

This proclamation does not affect title to the land described above, nor does it affect any valid existing easements for public roads and highways, for public utilities and for railroads or pipelines and any other rights-of-way or reservations of record.

Dated: March 22, 2016.
Lawrence S. Roberts,
Acting Assistant Secretary—Indian Affairs.

[FR Doc. 2016-06964 Filed 3-25-16; 8:45 am]

BILLING CODE 4337-15-P